DEPARTMENT OF EDUCATION

Applications for New Awards; Education Innovation and Research (EIR) Program Expansion Grants

AGENCY: Office of Elementary and Secondary Education, Department of Education.

ACTION: Notice.

SUMMARY: The Department of Education (Department) is issuing a notice inviting applications for fiscal year (FY) 2024 for the EIR program Expansion Grants, Assistance Listing Number 84.411A (Expansion Grants). This notice relates to the approved information collection under OMB control number 1894-0006.

DATES:

Applications Available: May 6, 2024.

Deadline for Notice of Intent to Apply: June 06, 2024.

Deadline for Transmittal of Applications: July 05, 2024.

Deadline for Intergovernmental Review: September 03, 2024.

Pre-Application Information: The Department will post additional competition information for prospective applicants on the EIR program website: https://oese.ed.gov/offices/office-of-discretionary-grants-support-services/innovation-early-learning/education-innovation-and-research-eir/fy-2024-competition/.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs.

FOR FURTHER INFORMATION CONTACT: Jamila Smith, U.S. Department of Education, 400 Maryland Avenue SW, Washington, DC 20202-5900. Telephone: 202-987-1753. Email: eir@ed.gov.

If you are deaf, hard of hearing, or have a speech disability and wish to access telecommunications relay services, please dial 7-1-1.

SUPPLEMENTARY INFORMATION:

Full Text of Announcement

I. Funding Opportunity Description

Purpose of Program: The EIR program, established under section 4611 of the Elementary and Secondary Education Act, as amended (ESEA), provides funding to create, develop, implement, replicate, or take to scale entrepreneurial, evidence-based (as defined in this notice), field-initiated innovations to improve student achievement and attainment for high-need students and to rigorously evaluate such innovations. The EIR program is designed to generate and validate solutions to persistent education challenges and to support the expansion of those solutions to serve substantially higher numbers of students.

The central design element of the EIR program is its multitier structure that links the amount of funding an applicant may receive to the quality of the evidence supporting the efficacy of the proposed project. A goal of the program is for projects that build this evidence to advance through EIR's grant tiers: “Early-phase,” “Mid-phase,” and “Expansion.”

“Early-phase,” “Mid-phase,” and “Expansion” grants differ in terms of the evidence of effectiveness required to be considered for funding, the expectations regarding the kind of evidence and information funded projects should produce, the scale of funded projects, and, consequently, the amount of funding available to support each type of project.

Expansion grants are supported by strong evidence (as defined in this notice) for at least one population and setting, and grantees are encouraged to implement at the national level (as defined in this notice). Expansion grants provide funding for the implementation and rigorous evaluation of a program that has been found to produce sizable, significant impacts under a Mid-phase grant or other effort meeting similar criteria, for the purposes of (a) determining whether such impacts can be successfully reproduced and sustained over time, and (b) identifying the conditions in which the program is most effective.

This notice invites applications for Expansion grants only. The notices inviting applications for Early-phase grants and Mid-phase grants are published elsewhere in this issue of the Federal Register.

Background:

While this notice is for the Expansion grants tier only, the premise of the EIR program is that new, effective, and innovative educational programs and practices can help to overcome the persistent and significant challenges to student educational opportunity and success, particularly for underserved and high-need students. Raise the Bar: Lead the World is the Department's call to action to transform pre-kindergarten (Pre-K) through grade 12 education and unite around what evidence demonstrates works by in promoting academic excellence, boldly improving learning conditions, and preparing our Nation's students for global competitiveness.¹ Consistent with that call to action, the priorities used in this competition advance Raise the Bar's goals to promote academic excellence and boldly improve learning conditions.

¹ U.S. Secretary of Education Miguel Cardona laid out his vision for the direction the agency will follow in 2024 to promote academic excellence, improve learning conditions, and prepare our students for a world where global engagement is critical to our Nation's standing. In his address, Secretary Cardona remarked that “Raise the Bar: Lead the World” is not a list of new priorities, but a call to strengthen our will to transform education for the better, building on approaches that we know work in education. More information is available at https://www.ed.gov/raisethebar.

In FY 2024, the Department is particularly interested in projects that propose services and activities that help students recover from the COVID-19 pandemic, accelerate learning and academic achievement, reimagine schools, and transform our education system. Specifically, the Department is focused on improving student achievement and attainment, as highlighted across Administration and Department efforts for the past several years. Building on the Administration's previous efforts, in January 2024, the Administration announced its Improving Student Achievement Agenda,² which aims to drive proven strategies that will support academic success for every child in school. The strategies and evidence discussed in the Improving Student Achievement Agenda focus on (1) increasing student attendance; (2) providing high-dosage tutoring; and (3) increasing summer learning and extended or afterschool learning time. These strategies and the broader Improving Student Achievement Agenda, including a focus on core academic instruction, are well aligned with the EIR program purpose, and the new funding to be released through the FY 2024 EIR competition will help accelerate and scale up sustainable adoption of evidence-based strategies that we expect will improve student achievement and attainment in the school years ahead. The priorities in this competition are designed to create conditions under which students have equitable access to high-quality learning opportunities and experiences. For example, projects may include new approaches to instructional design such as through project-based or experiential learning opportunities for students, schoolwide frameworks, such as small schools or learning communities, that support student connection and engagement, and increased interagency coordination to improve academic supports for highly mobile students such as students in foster care and students experiencing homelessness.

² https://www.whitehouse.gov/briefing-room/statements-releases/2024/01/17/fact-sheet-biden-harris-administration-announces-improving-student-achievement-agenda-in-2024/.

Note: The EIR program statute refers to “high-need students” but does not define the term, which allows applicants to define it for purposes of the applicant's proposed project, population, and setting. Addressing the needs of underserved students (as defined in this notice) is one way to address EIR's statutory requirement to serve “high-need students.” In particular, the Department welcomes innovative projects that serve disconnected youth, students who are in foster care, and students performing significantly below grade level.

The EIR program is rooted in innovation; the program is not intended to provide support for practices that are already commonly implemented by educators, unless significant adaptations of such practices warrant testing to determine if they can accelerate achievement or increase the likelihood that the practices can be widely, efficiently, and effectively implemented in new populations and settings. If the evaluation demonstrates that innovations are supported by strong evidence, then EIR seeks applicants who can replicate and test these innovations in new populations and settings.

As an EIR project is implemented, grantees are encouraged to learn more about how the practices improve student achievement and attainment as well as to develop increasingly rigorous evidence of effectiveness and new strategies to efficiently and cost-effectively scale to new school districts, regions, and States. We encourage applicants to develop a logic model (as defined in this notice), theory of action, or another conceptual framework that includes the goals, objectives, outcomes, and key project components (as defined in this notice) of the project that can support systems of continuous improvement.

All EIR applicants and grantees should also consider how they will develop their organizational capacity, project financing, and business plans to sustain their projects and continue implementation and adaptation after Federal funding ends. The Department intends to provide grantees with technical assistance to support dissemination, scaling, and sustainability efforts.

Expansion grant projects are expected to scale practices that have prior evidence of effectiveness to improve outcomes for high-need and underserved students. They are also expected to generate important information about an intervention's effectiveness, such as for whom and in which contexts a practice is most effective, including cost considerations such as economies of scale. Expansion grant projects are uniquely positioned to help answer critical questions about the process of scaling a practice to the national level across geographies as well as locale types. Expansion grant applicants are encouraged to consider how the cost structure of a practice can change as the intervention scales. Additionally, grantees may want to consider how their project will balance implementation fidelity and flexibility for scaling.

Expansion grant applicants are encouraged to design an evaluation that has the potential to meet strong evidence. Expansion grants should measure the cost—effectiveness of their practices using administrative or other readily available data. These types of efforts are critical to sustaining and scaling EIR-funded effective practices after the EIR grant period ends (assuming that the practice has positive effects on important student outcomes). To support adoption or replication by other entities, the evaluation of an Expansion grant project should identify and codify the core elements of the EIR-supported practice that the project implements, as well as examine the effectiveness of the project for any new populations or settings included in the project. The Department intends to provide grantees (including the independent evaluators they contract with as part of their project) with evaluation technical assistance. This could include grantees and their independent evaluators providing to the Department or its contractor updated comprehensive evaluation plans in a format as requested by the technical assistance provider and using such tools as the Department may request. Grantees will be encouraged to update this evaluation plan at least annually to reflect any changes to the evaluation. Updates must be consistent with the scope and objectives of the approved application.

The FY 2024 Expansion grant competition includes three absolute priorities and two competitive preference priorities. All Expansion grant applicants must address Absolute Priority 1. Expansion grant applicants are also required to address one of the other two absolute priorities (applicants may not submit under more than one of the other 2 absolute priorities). All applicants have the option of addressing the competitive preference priorities and may opt to do so regardless of the absolute priority they select.

Absolute Priority 1—Strong Evidence establishes the evidence requirement for this tier of grants. All Expansion grants applicants must submit prior evidence of effectiveness that meets the strong evidence standard.

Absolute Priority 2—Field-Initiated Innovations—General gives applicants the option to propose projects that are field-initiated innovations to improve student achievement and attainment.

Absolute Priority 3—Field-Initiated Innovations—Promoting Equity in Student Access to Educational Resources and Opportunities: Educator Recruitment and Retention is intended to elevate and strengthen the educator workforce in ways that prioritize innovation in recruiting and retaining educators to better support high-need students. Applicants are encouraged to address fundamental challenges schools face in recruiting and retaining qualified educators by addressing the responsibilities and challenges educators continue to face after the pandemic. For example, projects may be designed to improve supports for educators that enhance the ability of schools to recruit and retain staff (e.g., strategies to support educator wellbeing or structuring staffing and schedules to ensure educators and students are appropriately supported, and have sufficient time for planning, collaboration, working with coaches, and observing instruction of other educators) and increase access to leadership opportunities that can lead to increased pay and improved retention for fully certified, experienced, and effective educators, while expanding the impact of great teachers within and beyond their classrooms. Projects may support the recruitment and retention of all school staff or specific staff with acute recruitment and retention challenges (e.g., personnel serving children or students with disabilities) and increasing access to leadership opportunities that can lead to increased pay and improved retention for fully certified, experienced, and effective educators, while expanding the impact of great teachers within and beyond their classrooms. Projects may support the recruitment and retention of all school staff or specific staff with acute recruitment and retention challenges (e.g., personnel serving children or students with disabilities).

Competitive Preference Priority 1—Promoting Equity in Student Access to Educational Resources and Opportunities: Implementers and Partners is intended to encourage applicants to propose projects that involve (as applicants or partners) entities underrepresented in the program's portfolio of grants. The Department is eager to increase the volume of applicants and partners from entities such as community colleges (as defined in this notice), Historically Black Colleges and Universities (as defined in this notice), Tribal Colleges and Universities (as defined in this notice), and minority-serving institutions (as defined in this notice).

Competitive Preference Priority 2—Addressing the Impact of COVID-19 on Students, Educators, and Faculty: Community Asset-Mapping and Needs Assessment and Evidence-Based Instructional Approaches and Supports reflects the Administration's ongoing commitment to addressing the impact of the COVID-19 pandemic on Pre-K through grade 12 education. The pandemic caused unprecedented disruption in schools across the country and drew renewed attention to the ongoing challenges for underserved students. In response to the pandemic, educators mobilized to address the needs of all students. Researchers, educators, parents, and policymakers are working to understand and address the impact of inconsistent access to instruction, enrichment, peers, and services and supports, and the impact of other related challenges. We also know that for students in underserved communities, inequities in educational opportunity and outcomes existed previously, and have been exacerbated by the pandemic.³ The COVID-19 pandemic has changed the education landscape, as students continue to make up for lost classroom instruction. However, it also provides an opportunity to redesign how schools approach teaching and learning in ways that both address long-standing gaps in educational opportunity and better prepare students for college and careers. Over 14 million public school students (31 percent) missed at least 10 percent of school in school year 2021-2022.⁴ According to analysis by the Council of Economic Advisors, absenteeism accounted for up to 27 percent of the test score declines in math and 45 percent of the test score declines in reading on the National Assessment of Educational Progress.⁵ To that end, the Department seeks projects that build the evidence base on effective educational practices to improve achievement for high-need students by expanding existing innovative education practices to address these challenges and inequities. The proposed innovations should be designed to better enable students to access the educational opportunities they need to succeed in school and reach their full potential.

³ Dorn, E., Hancock, B., Sarakatsannis, J., & Viruleg, E. (2021, July 27). COVID-19 and education: The lingering effects of unfinished learning. McKinsey & Company. https://www.mckinsey.com/industries/education/our-insights/covid-19-and-education-the-lingering-effects-of-unfinished-learning.

⁴ U.S. Department of Education. (2023, September 15). Raising the Bar for Consistent School Attendance. ED.gov Blog. https://blog.ed.gov/2023/09/raising-the-bar-for-consistent-school-attendance/.

⁵ The White House. (2023, September 13). Chronic Absenteeism and Disrupted Learning Require an All-Hands-on-Deck Approach | CEA. The White House. https://www.whitehouse.gov/cea/written-materials/2023/09/13/chronic-absenteeism-and-disrupted-learning-require-an-all-hands-on-deck-approach/.

Through these priorities, the Department intends to advance innovation, build evidence, and address the learning and achievement of underserved and high-need students in Pre-K through grade 12.

Priorities: This notice includes three absolute priorities and two competitive preference priorities. In accordance with 34 CFR 75.105(b)(2)(ii), Absolute Priority 1 is from regulations (34 CFR 75.226(d)(2)). In accordance with 34 CFR 75.105(b)(2)(iv), Absolute Priority 2 is from section 4611(a)(1)(A) of the ESEA. Absolute Priority 3 is from section 4611(a)(1)(A) of the ESEA and the Supplemental Priorities and Definitions for Discretionary Grants Programs, published in the Federal Register on December 10, 2021 (86 FR 70612) (Supplemental Priorities). The competitive preference priorities are from the Supplemental Priorities.

Absolute Priorities: For FY 2024 and any subsequent year in which we make awards from the list of unfunded applications from this competition, these priorities are absolute priorities. Under 34 CFR 75.105(c)(3), we consider only applications that meet Absolute Priority 1 and one additional absolute priority.

These priorities are:

Absolute Priority 1—Strong Evidence.

Projects supported by evidence that meets the conditions in the definition of “strong evidence.”

Note: An applicant must identify up to four studies to be reviewed against the What Works Clearinghouse (WWC) Handbooks (as defined in this notice) for the purposes of meeting the definition of “strong evidence.” The studies may have been conducted by the applicant or by a third party. An applicant must clearly identify the citation for each study in the Evidence form. An applicant must ensure that all cited studies are available to the Department from publicly available sources and provide links or other guidance indicating where each is available. The Department may not review a study that an applicant fails to clearly identify for review.

In addition to including up to four study citations, an applicant must provide in the Evidence form the following information: (1) the positive student outcomes the applicant intends to replicate under its Expansion grant and how these outcomes correspond to the positive student outcomes in the cited studies; (2) the characteristics of the population to be served under its Expansion grant and how these characteristics correspond to the characteristics of the students in the cited studies; (3) the characteristics of the setting to be served under its Expansion grant and how these characteristics correspond to the settings in the cited studies; and (4) the practice(s) the applicant plans to implement under its Expansion grant and how the practice(s) correspond with the practice(s) in the cited studies.

If the Department determines that an applicant has provided insufficient information, the applicant will not have an opportunity to provide additional information. However, if the WWC team reviewing evidence determines that a study does not provide enough information on key aspects of the study design, such as sample attrition or equivalence of intervention and comparison groups, the WWC may submit a query to the study author(s) to gather information for use in determining a study rating. Authors would be asked to respond to queries within 10 business days. If the author query remains incomplete within 14 days of the initial contact with the study author(s), the study may be deemed ineligible under the grant competition. After the grant competition closes, the WWC will, for purposes of its own curation of studies, continue to include responses to author queries and make updates to study reviews as necessary. However, no additional information will be considered after the competition closes and the initial timeline established for response to an author query passes.

Absolute Priority 2—Field-Initiated Innovations—General.

Projects designed to create, develop, implement, replicate, or take to scale entrepreneurial, evidence-based, field-initiated innovations to improve student achievement and attainment for high-need students.

Absolute Priority 3—Field-Initiated Innovations—Promoting Equity in Student Access to Educational Resources and Opportunities: Educator Recruitment and Retention.

Projects that are designed to—

(a) Create, develop, implement, replicate, or take to scale entrepreneurial, evidence-based, field-initiated

innovations to improve student achievement and attainment for high-need students; and

(b) Promote educational equity and adequacy in resources and opportunity for underserved students—

(1) In one or more of the following educational settings:

(i) Early learning programs.

(ii) Elementary school.

(iii) Middle school.

(iv) High school.

(v) Career and technical education programs.

(vi) Out-of-school-time settings.

(vii) Alternative schools and programs.

(viii) Juvenile justice system or correctional facilities; and

(2) That examine the sources of inequity and inadequacy and implement responses, and that may include one or more of the following:

(i) Increasing the number and proportion of experienced, fully certified, in-field, and effective educators, and educators from traditionally underrepresented backgrounds or the communities they serve, to ensure that underserved students have educators from those backgrounds and communities and are not taught at disproportionately higher rates by uncertified, out-of-field, and novice teachers compared to their peers.

Note: All strategies to increase racial diversity of educators must comply with the nondiscrimination requirements contained in Federal civil rights laws.

(ii) Improving the preparation, recruitment, and early career support and development of educators in shortage areas or hard to staff schools.

(iii) Improving the retention of fully certified, experienced, and effective educators in high-need schools or shortage areas.

Competitive Preference Priorities: For FY 2024 and any subsequent year in which we make awards from the list of unfunded applications from this competition, these priorities are competitive preference priorities. Under 34 CFR 75.105(c)(2)(i), we award up to an additional 3 points to an application, depending on how well the application addresses Competitive Preference Priority 1, and up to an additional 3 points to an application, depending on how well the application addresses Competitive Preference Priority 2.

These priorities are:

Competitive Preference Priority 1—Promoting Equity in Student Access to Educational Resources and Opportunities: Implementers and Partners (up to 3 points).

Under this priority, an applicant must demonstrate how the project will be implemented by or in partnership with one or more of the following entities:

(a) Community colleges (as defined in this notice).

(b) Historically Black colleges and universities (as defined in this notice).

(c) Tribal Colleges and Universities (as defined in this notice).

(d) Minority-serving institutions (as defined in this notice).

Competitive Preference Priority 2—Addressing the Impact of COVID-19 on Students, Educators, and Faculty: Community Asset-Mapping and Needs Assessment and Evidence-Based Instructional Approaches and Supports (up to 3 points).

Projects that are designed to address the impacts of the COVID-19 pandemic, including impacts that extend beyond the duration of the pandemic itself, on the students most impacted by the pandemic, with a focus on underserved students and the educators who serve them, through the following priority areas:

(a) Conducting community asset-mapping and needs assessments that may include an assessment of the extent to which students, including subgroups of students, have become disengaged from learning, including students not participating in in-person or remote instruction, and specific strategies for reengaging and supporting students and their families; and

(b) Using evidence-based instructional approaches and supports, such as professional development, coaching, ongoing support for educators, high quality tutoring, expanded access to rigorous coursework and content across K-12, and expanded learning time to accelerate learning for students in ways that ensure all students have the opportunity to successfully meet challenging academic content standards without contributing to tracking or remedial courses.

Definitions: The following definitions apply to this program. The definitions of “baseline,” “experimental study,” “logic model,” “strong evidence,” “national level,” “nonprofit,” “performance measure,” “performance target,” “project component,” “relevant outcome,” and “What Works Clearinghouse Handbooks (WWC Handbooks)” are from 34 CFR 77.1. The definitions of “evidence-based,” “local educational agency,” and “State educational agency” are from section 8101 of the ESEA. The definitions of “community college,” “children or students with disabilities,” “disconnected youth,” “early learning,” “educator,” “English learner,” “Historically Black colleges and universities,” “military- or veteran-connected student,” “minority-serving institutions,” “Tribal College or University,” and “underserved student” are from the Supplemental Priorities.

Baseline means the starting point from which performance is measured and targets are set.

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202)(B)).

Community college means “junior or community college” as defined in section 312(f) of the Higher Education Act of 1965, as amended (HEA).

Disconnected youth means an individual, between the ages 14 and 24, who may be from a low-income background, experiences homelessness, is in foster care, is involved in the justice system, or is not working or not enrolled in (or at risk of dropping out of) an educational institution.

Early learning means any (a) State-licensed or State-regulated program or provider, regardless of setting or funding source, that provides early care and education for children from birth to kindergarten entry, including, but not limited to, any program operated by a child care center or in a family child care home; (b) program funded by the Federal Government or State or local educational agencies (including any IDEA-funded program); (c) Early Head Start and Head Start program; (d) non-relative child care provider who is not otherwise regulated by the State and who regularly cares for two or more unrelated children for a fee in a provider setting; and (e) other program that may deliver early learning and development services in a child's home, such as the Maternal, Infant, and Early Childhood Home Visiting Program; Early Head Start; and Part C of IDEA.

Educator means an individual who is an early learning educator, teacher, principal or other school leader, specialized instructional support personnel (e.g., school psychologist, counselor, school social worker, early intervention service personnel), paraprofessional, or faculty.

English learner means an individual who is an English learner as defined in section 8101(20) of the ESEA, or an individual who is an English language learner as defined in section 203(7) of the Workforce Innovation and Opportunity Act.

Evidence-based means an activity, strategy, or intervention that—

(i) Demonstrates a statistically significant effect on improving student outcomes or other relevant outcomes based on—

(I) Strong evidence from at least 1 well-designed and well-implemented experimental study;

(II) Moderate evidence from at least 1 well-designed

and well-implemented quasi-experimental study; or

(III) Promising evidence from at least 1 well-designed and well-implemented correlational study with statistical controls for selection bias; or

(ii)(I) Demonstrates a rationale based on high-quality research findings or positive evaluation that such activity, strategy, or intervention is likely to improve student outcomes or other relevant outcomes; and

(II) Includes ongoing efforts to examine the effects of such activity, strategy, or intervention.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks (as defined in this notice):

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Historically Black colleges and universities means colleges and universities that meet the criteria set out in 34 CFR 608.2.

Local educational agency (LEA) means:

(a) In General. A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any State educational agency (SEA) (as defined in this notice) other than the Bureau of Indian Education.

(d) Educational Service Agencies. The term includes educational service agencies and consortia of those agencies.

(e) State Educational Agency. The term includes the SEA in a State in which the SEA is the sole educational agency for all public schools.

Logic model (also referred to as a theory of action) means a framework that identifies key project components of the proposed project (i.e., the active “ingredients” that are hypothesized to be critical to achieving the relevant outcomes) and describes the theoretical and operational relationships among the key project components and relevant outcomes.

Military- or veteran-connected student means one or more of the following:

(a) A child participating in an early learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an early learning program, a student enrolled in preschool through grade 12, or a student enrolled in career and technical education or postsecondary education who has a parent or guardian who is a veteran of the uniformed services (as defined by 37 U.S.C. 101).

Minority-serving institution means an institution that is eligible to receive assistance under sections 316 through 320 of part A of title III, under part B of title III, or under title V of the HEA.

National level describes the level of scope or effectiveness of a process, product, strategy, or practice that can be effective in a wide variety of communities, including rural and urban areas, as well as with different groups (e.g., economically disadvantaged, racial and ethnic groups, migrant populations, individuals with disabilities, English learners, and individuals of each gender).

Nonprofit, as applied to an agency, organization, or institution, means that it is owned and operated by one or more corporations or associations whose net earnings do not benefit, and cannot lawfully benefit, any private shareholder or entity.

Performance measure means any quantitative indicator, statistic, or metric used to gauge program or project performance.

Performance target means a level of performance that an applicant would seek to meet during the course of a project or as a result of a project.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program. State educational agency (SEA) means the agency primarily responsible for the State supervision of public elementary schools and secondary schools.

Strong evidence means that there is evidence of the effectiveness of a key project component in improving a relevant outcome for a sample that overlaps with the populations and settings proposed to receive that component, based on a relevant finding from one of the following:

(i) A practice guide prepared by the WWC using version 2.1, 3.0, 4.0, or 4.1 of the WWC Handbooks reporting a “strong evidence base” for the corresponding practice guide recommendation;

(ii) An intervention report prepared by the WWC using version 2.1, 3.0, 4.0, or 4.1 of the WWC Handbooks reporting a “positive effect” on a relevant outcome based on a “medium to large” extent of evidence, with no reporting of a “negative effect” or “potentially negative effect” on a relevant outcome; or

(iii) A single experimental study reviewed and reported by the WWC using version 2.1, 3.0, 4.0, or 4.1 of the WWC Handbooks, or otherwise assessed by the Department using version 4.1 of the WWC Handbook, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy this requirement in this paragraph (iii)(D).

Tribal College or University has the meaning ascribed it in section 316(b)(3) of the HEA.

Underserved student means a student (which may include children in early learning environments, students in K-12 programs, and students in postsecondary education or career and technical education, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A migrant student.

(h) A student experiencing homelessness or housing insecurity.

(i) A lesbian, gay, bisexual, transgender, queer or questioning, or intersex (LGBTQI+) student.

(j) A student who is in foster care.

(k) A student without documentation of immigration status.

(l) A pregnant, parenting, or caregiving student.

(m) A student impacted by the justice system, including a formerly incarcerated student.

(n) A student who is the first in their family to attend postsecondary education.

(o) A student performing significantly below grade level.

(p) A military- or veteran-connected student.

What Works Clearinghouse Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbook (Version 4.1), as well as the more recent What Works Clearinghouse Handbooks released in August 2022 (Version 5.0), are available at https://ies.ed.gov/ncee/wwc/Handbooks.

Program Authority: 20 U.S.C. 7261.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

Note: The regulations in 34 CFR part 86 apply to institutions of higher education (IHEs) only.

II. Award Information

Type of Award: Discretionary grants.

Estimated Available Funds: $251,000,000.

These estimated available funds are the total available for new awards for all three types of grants under the EIR program (Early-phase, Mid-phase, and Expansion grants).

Contingent upon the availability of funds and the quality of applications, we may make additional awards in subsequent years from the list of unfunded applications.

Estimated Average Size of Awards: Up to $15,000,000.

Maximum Award: We will not make an award exceeding $15,000,000 for a project period of 60 months. Under 34 CFR 75.104(b) the Secretary may reject, without consideration or evaluation, any application that proposes a project funding level that exceeds the stated maximum award amount. The Department intends to fund one or more projects under each of the EIR competitions, including Expansion grants (84.411A), Mid-phase grants (84.411B), and Early-phase grants (84.411C). Entities may submit applications for different projects for more than one competition (Early-phase grants, Mid-phase grants, and Expansion grants). The combined maximum new award amount a grantee may receive under these three competitions, is $16,000,000. If an entity is within funding range for multiple applications, the Department will award the highest scoring applications up to $16,000,000.

Estimated Number of Awards: 4-8.

Note: The Department is not bound by any estimates in this notice.

Project Period: Up to 60 months.

Note: Under section 4611(c) of the ESEA, the Department must use at least 25 percent of EIR funds for a fiscal year to make awards to applicants serving rural areas, contingent on receipt of a sufficient number of applications of sufficient quality. For purposes of this competition, we will consider an applicant as rural if the applicant meets the qualifications for rural applicants as described in the Eligible Applicants section and the applicant certifies that it meets those qualifications through the application. In implementing this statutory provision and program requirement, the Department may fund high-quality applications from rural applicants out of rank order in the Expansion grants competition.

In addition, from the estimated funds for this competition, the Department intends to award an estimated $87 million in funds for Science, Technology, Engineering and Math (STEM) projects and $87 million in funds for social and emotional learning projects, contingent on receipt of a sufficient number of applications of sufficient quality.

III. Eligibility Information

1. Eligible Applicants:

(a) An LEA;

(b) An SEA;

(c) The Bureau of Indian Education (BIE);

(d) A consortium of SEAs or LEAs;

(e) A nonprofit (as defined in this notice) organization; and

(f) An LEA, an SEA, the BIE, or a consortium described in clause (d), in partnership with—

(1) A nonprofit organization;

(2) A business;

(3) An educational service agency; or

(4) An IHE.

To qualify as a rural applicant under the EIR program, an applicant must meet both of the following requirements:

(a) The applicant is—

(1) An LEA with an urban-centric district locale code of 32, 33, 41, 42, or 43, as determined by the Secretary;

(2) A consortium of such LEAs;

(3) An educational service agency or a nonprofit organization in partnership with such an LEA; or

(4) A grantee described in clause (1) or (2) in partnership with an SEA; and

(b) A majority of the schools to be served by the program are designated with a locale code of 32, 33, 41, 42, or 43, or a combination of such codes, as determined by the Secretary.

Applicants are encouraged to retrieve locale codes from the National Center for Education Statistics School District search tool (https://nces.ed.gov/ccd/districtsearch/), where districts can be looked up individually to retrieve locale codes, and the Public School search tool (https://nces.ed.gov/ccd/schoolsearch/), where individual schools can be looked up to retrieve locale codes. More information on rural applicant eligibility will be in the application package for this competition.

Note: An applicant that is a nonprofit organization may, under 34 CFR 75.51, demonstrate its nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

In addition, with respect to IHEs and their affiliates, the following entities may apply for a grant under this competition: (1) As noted above, any IHE that is a partner in an application submitted by an LEA, SEA, BIE, consortium of SEAs or LEAs, or a nonprofit organization; (2) A private IHE that is a nonprofit organization; (3) A nonprofit organization, such as a development foundation, that is affiliated with a public IHE; and (4) A public IHE with 501(c)(3) status. A public IHE without 501(c)(3) status (even if that entity is tax exempt under Section 115 of the Internal Revenue Code or any other State or Federal provision), or that could not provide any other documentation of nonprofit status described above, however, would not qualify as a nonprofit organization, and therefore would not be eligible to apply for and receive an EIR grant.

2. a. Cost Sharing or Matching: Under section 4611(d) of the ESEA, each grant recipient must provide, from Federal, State, local, or private sources, an amount equal to 10 percent of funds provided under the grant, which may be provided in cash or through in-kind contributions, to carry out activities supported by the grant. Applicants must include a budget showing their matching contributions to the budget amount of EIR grant funds and must provide evidence of their matching contributions for the first year of the grant in their grant applications.

Section 4611(d) of the ESEA authorizes the Secretary to waive the matching requirement on a case-by-case basis, upon a showing of exceptional circumstances, such as:

(i) The difficulty of raising matching funds for a program to serve a rural area;

(ii) The difficulty of raising matching funds in areas with a concentration of LEAs or schools with a high percentage of students aged 5 through 17—

(A) Who are in poverty, as counted in the most recent census data approved by the Secretary;

(B) Who are eligible for a free or reduced-price lunch under the Richard B. Russell National School Lunch Act (42 U.S.C. 1751 et seq.);

(C) Whose families receive assistance under the State program funded under part A of title IV of the Social Security Act (42 U.S.C. 601 et seq.); or

(D) Who are eligible to receive medical assistance under the Medicaid program; and

(iii) The difficulty of raising funds on Tribal land.

An applicant that wishes to apply for a waiver must include a request in its application, describing the exceptional circumstances that make it difficult for the applicant to meet the matching requirement. Further information about applying for waivers can be found in the application package for this competition.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

4. Other: a. Funding Categories: An applicant will be considered for an award only for the type of EIR grant for which it applies. An applicant may not submit an application for the same proposed project under more than one type of grant (e.g., both an Expansion grant and Mid-phase grant).

Note: Each application will be reviewed under the competition in which it was submitted in the Grants.gov system, and only applications that are successfully submitted by the established deadline will be peer reviewed. Applicants should be careful that they download the intended EIR application package and that they submit their applications under the intended EIR competition.

b. Evaluation: The grantee must conduct an independent evaluation of the effectiveness of its project.

c. High-need students: The grantee must serve high-need students.

IV. Application and Submission Information

1. Application Submission Instructions: Applicants are required to follow the Common Instructions for Applicants to Department of Education Discretionary Grant Programs, published in the Federal Register on December 7, 2022 (87 FR 75045), and available at https://www.federalregister.gov/documents/2022/12/07/2022-26554/common-instructions-for-applicants-to-department-of-education-discretionary-grant-programs, which contain requirements and information on how to submit an application.

2. Submission of Proprietary Information: Given the types of projects that may be proposed in applications for Expansion grants, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, will address the selection criteria that reviewers use to evaluate your application. We recommend that you (1) limit the application narrative for an Expansion grant to no more than 35 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; one-page abstract; evidence form; or appendices (e.g., nonprofit documentation, resumes, letters of support, demonstration of match, matching waiver request, list of proprietary information, eligibility checklist, logic model, indirect cost rate agreement). However, the recommended page limit does apply to the entire application narrative.

6. Notice of Intent to Apply: The Department will be able to review grant applications more efficiently if we know the approximate number of applicants that intend to apply. Therefore, we strongly encourage each potential applicant to notify us of their intent to submit an application. Applicants may access this form using the link available on the Notice of Intent to Apply section of the competition website: https://oese.ed.gov/offices/office-of-discretionary-grants-support-services/innovation-early-learning/education-innovation-and-research-eir/fy-2024-competition/. Applicants that do not submit a notice of intent to apply may still apply for funding; applicants that do submit a notice of intent to apply are not bound to apply or bound by the information provided.

V. Application Review Information

1. Selection Criteria: The selection criteria for the Expansion grant competition are from 34 CFR 75.210. The points assigned to each criterion are indicated in the parentheses next to the criterion. Together with the competitive preference priorities, an applicant may earn up to a total of 106 points based on the selection criteria for the application.

A. Significance (up to 15 points).

The Secretary considers the significance of the proposed project. In determining the significance of the proposed project, the Secretary considers the extent to which the proposed project involves the development or demonstration of promising new strategies that build on, or are alternatives to, existing strategies.

B. Strategy to Scale (up to 40 points).

The Secretary considers the applicant's strategy to scale the proposed project. In determining the applicant's capacity to scale the proposed project, the Secretary considers the following factors:

(1) The extent to which the applicant identifies a specific strategy or strategies that address a particular barrier or barriers that prevented the applicant, in the past, from reaching the level of scale that is proposed in the application. (10 points)

(2) The adequacy of the management plan to achieve the objectives of the proposed project on time and within budget, including clearly defined responsibilities, timelines, and milestones for accomplishing project tasks. (5 points)

(3) The applicant's capacity (e.g., in terms of qualified personnel, financial resources, or management capacity) to bring the proposed project to scale on a national or regional level (as defined in this notice) working directly, or through partners, during the grant period. (10 points)

(4) The mechanisms the applicant will use to broadly disseminate information on its project so as to support further development or replication. (10 points)

(5) The likely utility of the products (such as information, materials, processes, or techniques) that will result from the proposed project, including the potential for their being used effectively in a variety of other settings. (5 points)

C. Quality of the Project Design (up to 20 points).

The Secretary considers the quality of the design of the proposed project. In determining the quality of the design of the proposed project, the Secretary considers the following factors:

(1) The extent to which there is a conceptual framework underlying the proposed research or demonstration activities and the quality of that framework. (5 points)

(2) The extent to which the goals, objectives, and outcomes to be achieved by the proposed project are clearly specified and measurable. (5 points)

(3) The extent to which the design of the proposed project is appropriate to, and will successfully address, the needs of the target population or other identified needs. (10 points)

D. Quality of the Project Evaluation (up to 25 points).

The Secretary considers the quality of the evaluation to be conducted of the proposed project. In determining the quality of the evaluation, the Secretary considers the following factors:

(1) The extent to which the methods of evaluation will, if well implemented, produce evidence about the project's effectiveness that would meet the What Works Clearinghouse standards without reservations as described in the What Works Clearinghouse Handbook (as defined in this notice). (15 points)

(2) The extent to which the evaluation will provide guidance about effective strategies suitable for replication or testing in other settings. (5 points)

(3) The extent to which the evaluation plan clearly articulates the key project components, mediators, and outcomes, as well as a measurable threshold for acceptable implementation. (5 points)

Note: Applicants may wish to review the following technical assistance resources on evaluation: (1) WWC Procedures and Standards Handbooks: https://ies.ed.gov/ncee/wwc/Handbooks; (2) “Technical Assistance Materials for Conducting Rigorous Impact Evaluations”: http://ies.ed.gov/ncee/projects/evaluationTA.asp; and (3) IES/NCEE Technical Methods papers: http://ies.ed.gov/ncee/tech_methods/. In addition, applicants may view an optional webinar recording that was hosted by the Institute of Education Sciences. The webinar focused on more rigorous evaluation designs, discussing strategies for designing and executing experimental studies that meet WWC evidence standards without reservations. This webinar is available at: https://ies.ed.gov/ncee/wwc/Multimedia/18.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Before making awards, we will screen applications submitted in accordance with the requirements in this notice to determine whether applications have met eligibility and other requirements. This screening process may occur at various stages of the process; applicants that are determined to be ineligible will not receive a grant, regardless of peer reviewer scores or comments.

Peer reviewers will read, prepare a written evaluation of, and score the assigned applications, using the selection criteria provided in this notice.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

Note: The evaluation report is a specific deliverable under an Expansion grant that grantees must make available to the public. Additionally, EIR grantees are encouraged to submit final studies resulting from research supported in whole or in part by EIR to the Educational Resources Information Center (http://eric.ed.gov).

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures: For the purpose of Department reporting under 34 CFR 75.110, the Department has established a set of performance measures (as defined in this notice) for the Expansion grants.

Annual performance measures: (1) The percentage of grantees that reach their annual target number of students as specified in the application; (2) the percentage of grantees that reach their annual target number of high-need students as specified in the application; (3) the percentage of grantees with ongoing well-designed and independent evaluations that will provide evidence of their effectiveness at improving student outcomes in multiple contexts; (4) the percentage of grantees that implement an evaluation that provides information about the key practices and the approach of the project so as to facilitate replication; (5) the percentage of grantees that implement an evaluation that provides information on the cost-effectiveness of the key practices to identify potential obstacles and success factors to scaling; and (6) the cost per student served by the grant.

Cumulative performance measures: (1) The percentage of grantees that reach the targeted number of students specified in the application; (2) the percentage of grantees that reach the targeted number of high-need students specified in the application; (3) the percentage of grantees that complete a well-designed, well-implemented, and independent evaluation that provides evidence of effectiveness at improving student outcomes at scale; (4) the percentage of grantees that complete a well-designed, well-implemented, and independent evaluation that provides information about the key elements and the approach of the project so as to facilitate replication or testing in other settings; (5) the percentage of grantees with a completed evaluation that provides information on the cost-effectiveness of the key practices to identify potential obstacles and success factors to scaling; and (6) the cost per student served by the grant.

Project-Specific Performance Measures: Applicants must propose project-specific performance measures and performance targets (both as defined in this notice) consistent with the objectives of the proposed project. Applications must provide the following information as directed under 34 CFR 75.110(b) and (c):

(1) Performance measures. How each proposed performance measure would accurately measure the performance of the project and how the proposed performance measure would be consistent with the performance measures established for the program funding the competition.

(2) Baseline (as defined in this notice) data. (i) Why each proposed baseline is valid; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

(4) Data collection and reporting. (i) The data collection and reporting methods the applicant would use and why those methods are likely to yield reliable, valid, and meaningful performance data; and (ii) the applicant's capacity to collect and report reliable, valid, and meaningful performance data, as evidenced by high-quality data collection, analysis, and reporting in other projects or research.

All grantees must submit an annual performance report with information that is responsive to these performance measures.

6. Continuation Awards: In making a continuation award under 34 CFR 75.253, the Secretary considers, among other things, whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Adam Schott,
Principal Deputy Assistant Secretary, Delegated the Authority to Perform the Functions and Duties of the Assistant Secretary, Office of Elementary and Secondary Education.

[FR Doc. 2024-09795 Filed 5-3-24; 8:45 am]

BILLING CODE 4000-01-P